DEPARTMENT OF DEFENSE

Office of the Secretary

Designation of Local Redevelopment Authority for Naval Station Roosevelt Roads Military Reservation

AGENCY: Office of Economic Adjustment, DoD.

ACTION: Notice.

SUMMARY: Section § 8132 of Public Law 108-87, Department of Defense Appropriations Act, 2004, September 30, 2003, directs the Secretary of the Navy to close naval Station Roosevelt Roads, Puerto Rico, no later than 6 months after enactment. This notice provides the point of contact, address, and telephone number for the Local Redevelopment Authority (LRA) responsible for developing the redevelopment plan for the Naval Station Roosevelt Roads Military Reservation, Ceiba, Puerto Rico. Representatives of the Commonwealth, local governments, and homeless providers intersted in reuse of the installation should contact the organization listed. The following information will be published in a newspaper of general circulation in the communities in the vicinity of Naval Station Roosevelt Roads.

Installation Name: Naval Station Roosevelt Roads Military Reservation.

LRA Name: Puerto Rico Department of Economic Development and Commerce.

Point of Contact: Honorable Milton Segarro, Secretary.

Address: 355 F.D. Roosevelt Avenue, Suite 404, Hato Rey, PR 00918.

Phone: (787) 758-4747.

EFFECTIVE DATE: November 20, 2003.

FOR FURTHER INFORMATION CONTACT: Director, Office of Economic Adjustmnet, 400 Army Navy Drive, Suite 200, Arlington, VA 22202; telephone (703) 604-6020.

Dated: December 1, 2003.
Patricia L. Toppings,
Alternate OSD Federal Register Liaison Officer, Department of Defense.

[FR Doc. 03-30547 Filed 12-9-03; 8:45 am]

BILLING CODE 5001-06-M